DEPARTMENT OF ENERGY

10 CFR Part 430 and 431

[EERE-2019-BT-TP-0032]

RIN 1904-AE77

Energy Conservation Program: Test Procedures for Consumer Water Heaters and Residential-Duty Commercial Water Heaters

AGENCY: Office of Energy Efficiency and Renewable Energy, Department of Energy.

ACTION: Request for information; reopening of the public comment period.

SUMMARY: On April 16, 2020, the U.S. Department of Energy (DOE) published a request for information (RFI) pertaining to the test procedures for consumer water heaters and residential-duty commercial water heaters. The RFI provided an opportunity for submission of written comments, data, and information to the Department by June 1, 2020. Prior to the end of the comment period for the RFI, DOE received requests from the Air-Conditioning, Heating and Refrigeration Institute (AHRI), as well as from the American Public Gas Association (APGA), seeking additional time to consider the issues raised in the RFI and possibly to conduct further testing, in order to establish the applicability and impact of a different test procedure on water heating equipment. In light of these request, DOE is announcing its decision to reopen the comment period on the subject RFI for an additional 14 days.

DATES: The comment period for the consumer water heaters and residential-duty commercial water heaters test procedures RFI, published in the Federal Register on April 16, 2020, which closed on June 1, 2020, is hereby reopened and extended. Accordingly, DOE will accept written comments, data, and information in response to the RFI submitted no later than June 24, 2020.

ADDRESSES: Interested persons are encouraged to submit comments using the Federal eRulemaking Portal at http://www.regulations.gov. Follow the instructions for submitting comments. Alternatively, interested persons may submit comments, identified by docket number EERE-2019-BT-TP-0032 and/or RIN 1904-AE77, by any of the following methods:

1. Federal eRulemaking Portal: http://www.regulations.gov. Follow the instructions for submitting comments.

2. Email: WaterHeaters2019TP0032@ee.doe.gov. Include the docket number EERE-2019-BT-TP-0032 and/or RIN 1904-AE77 in the subject line of the message.

3. Postal Mail: Appliance and Equipment Standards Program, U.S. Department of Energy, Building Technologies Office, Mailstop EE-5B, 1000 Independence Avenue SW, Washington, DC 20585-0121. If possible, please submit all items on a compact disc (CD), in which case it is not necessary to include printed copies.

4. Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2019-BT-TP-0032. The docket web page contains instructions on how to access all documents, including public comments, in the docket.

FOR FURTHER INFORMATION CONTACT: Ms. Catherine Rivest, U.S. Department of Energy, Office of Energy Efficiency and Renewable Energy, Building Technologies Office, EE-5B, 1000 Independence Avenue SW, Washington, DC 20585-0121. Telephone: (202) 586-7335. Email: ApplianceStandardsQuestions@ee.doe.gov.

Mr. Eric Stas, U.S. Department of Energy, Office of the General Counsel, GC-33, 1000 Independence Avenue SW, Washington, DC 20585-0121. Telephone: (202) 586-5827. Email: Eric.Stas@hq.doe.gov.

For further information on how to submit a comment, or review other public comments and the docket, contact the Appliance and Equipment Standards Program staff at (202) 586-6636 or by email: ApplianceStandardsQuestions@ee.doe.gov.

SUPPLEMENTARY INFORMATION: DOE published a Request for Information (RFI) pertaining to the test procedures for consumer water heaters and residential-duty commercial water heaters in the Federal Register on April 16, 2020. 85 FR 21104. The RFI initiated a data collection process and seeks input from the public to assist DOE in considering whether to amend the current test procedures for consumer water heaters and residential-duty commercial water heaters. Information received in response to the request will help DOE determine whether amending the test procedures for consumer water heaters and residential-duty commercial water heaters would more accurately or fully comply with the requirements for test procedures to not be unduly burdensome to conduct and be reasonably designed to produce test results that reflect energy efficiency, energy use, and estimated operating costs during a representative average use cycle or period of use. In that RFI, DOE requested submission of written comment, data, and information pertaining to the subject test procedures by June 1, 2020.

On April 24, 2020, AHRI, an interested party in the matter, requested a 60-day extension of the public comment period for the RFI that DOE previously published in the Federal Register on April 16, 2020.¹ More specifically, AHRI requested additional time to consider the issues raised in the RFI and possibly to conduct testing, in order to establish the applicability and impact of a different test procedure on water heating equipment.

¹ Available at https://www.regulations.gov/document?D=EERE-2019-BT-TP-0032-0003.

On May 1, 2020, APGA, also requested a 60-day extension of the public comment period for the RFI that DOE previously published in the Federal Register on April 16, 2020, for similar reasons to those expressed in the AHRI request.²

² Available at https://www.regulations.gov/document?D=EERE-2019-BT-TP-0032-0004.

On May 27, 2020, AHRI reiterated their request for a comment extension for the RFI. However, in this request, AHRI stated that an additional 30 days would be needed to review test data to assess whether certain modifications to the test procedure would result in a change in measured efficiency. AHRI added that waivers that have been issued by DOE must be addressed in any new test procedures, and must be considered by the industry as a whole so as to convey a unified path forward.³

³ Available at https://www.regulations.gov/document?D=EERE-2019-BT-TP-0032-0006.

After carefully considering these requests, DOE has determined that a reopening of the comment period for an additional 14 days to allow additional time for interested parties to submit comments is sufficient. Therefore, DOE is reopening the comment period for the consumer water heater and residential-duty commercial water heaters test procedures RFI and will accept comments received on and before June 24, 2020, in order to provide interested parties additional time to prepare and submit comments.

Accordingly, DOE will consider any comments received by this date to be timely submitted.

Signing Authority

This document of the Department of Energy was signed on June 2, 2020, by Alexander N. Fitzsimmons, Deputy Assistant Secretary for Energy Efficiency, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 4, 2020.
Treena V. Garrett,
Federal Register Liaison Officer, U.S. Department of Energy.

[FR Doc. 2020-12436 Filed 6-9-20; 8:45 am]

BILLING CODE 6450-01-P